ENVIRONMENTAL PROTECTION AGENCY

[ER-FRL-6650-3]

Environmental Impact Statements; Notice of Availability

Responsible Agency: Office of Federal Activities, General Information, (202) 564-7167 or http://www.epa.gov/compliance/nepa/.

Weekly receipt of Environmental Impact Statements

Filed April 5, 2004, through April 9, 2004

Pursuant to 40 CFR 1506.9.

EIS No. 040163, Final Supplement, COE, FL, Phipps Ocean Park Beach Restoration Project to Provide Shore Protection for the Shoreline surrounding Phipps Ocean Park within the Town of Palm Beach, Regulatory Authorization and U.S. Army COE Section 10 and 404 Section Permits Issuance, Palm Beach County, FL, Wait Period Ends: May 17, 2004, Contact: Penny Cutt (561) 472-3505.

This document is available on the Internet at: http://www.saj.usace.mil/permit/hot_topics/PhippsEIS/Phippsindex.htm.

EIS No. 040164, FINAL EIS, IBR, CA, Freeport Regional Water Project, To Construct and Operate a Water Supply Project to Meet Regional Water Supply Needs, Sacramento County Water Agency (SCWA) and the East Bay Municipal Utility District (EBMUD), Alameda, Contra Costa, San Joaquin, Sacramento Counties, CA, Wait Period Ends: May 17, 2004, Contact: Rob Schroeder (916) 989-7274.

EIS No. 040165, FINAL EIS, NPS, AZ, Coronado National Memorial General Management Plan, Implementation, Cochise County, AZ, Wait Period Ends: May 17, 2004, Contact: John Paige (303) 969-2356.

EIS No. 040166, FINAL EIS, AFS, CO, Arapaho National Recreation Area Forest Health and Fuels Reduction Project, Pre-Suppression Measures for Mountain Pine Beetle Infestation Reduction in Stands of Lodgepole Pine, Implementation, Arapaho National Forest, Sulphur Ranger District, Grand County, CO, Wait Period Ends: May 17, 2004, Contact: Rick Caissie (970) 887-4112.

This document is available on the Internet at: http://www.mt.blm.gov/dfo/rmp.

EIS No. 040167, DRAFT SUPPLEMENT, COE, CA, U.S. Army National Training Center, Proposed Addition of Maneuver Training Land at Fort Irwin, Implementation, San Bernardino County, CA, Comment Period Ends: July 16, 2004, Contact: Ray Marler (760) 380-3035.

EIS No. 040168, DRAFT SUPPLEMENT, AFS, ID, Clean Slate Ecosystem Management Project, Aquatic and Terrestrial Restoration, Updated Information, Alternatives for the Identifies Unroaded Areas, Nez Perce National Forest, Salmon River Ranger District, Idaho County, ID, Comment Period Ends: June 1, 2004, Contact: Mick McGee (208) 983-1963.

EIS No. 040169, FINAL EIS, AFS, PA, Sugar Run Project Area (SRPA), To Achieve and Maintain the Desired Conditions as stated in Forest Plan, Allegheny National Forest, Bradford Ranger District, McKean County, PA, Wait Period Ends: May 17, 2004, Contact: Heather Whittier (814) 362-4613.

EIS No. 040170, DRAFT EIS, NOA, WA, OR, Puget Sound Chinook Harvest Resource Management Plan (RMP) 2004-2009, Implementation, Endangered Species Act, OR and WA, Comment Period Ends: June 1, 2004, Contact: Susan Bishop (206) 526-4587.

EIS No. 040171, DRAFT EIS, AFS, UT, State of Utah School and Institutional Trust Lands Administration (SITLA) Access Route on East Mountain, National Forest System Lands Administered by Manti-La Sal National Forest, Ferron/Price Ranger District, Emery Counties, UT, Comment Period Ends: June 1, 2004, Contact: Leland Matheson (435) 636-3500.

EIS No. 040172, FINAL EIS, IBR, NM, City of Albuquerque Drinking Water Project to Provide a Sustainable Water Supply for Albuquerque through Direct and Full Consumptive Use of the City's San Juan-Chama (SJC) Water for Potable Purposes, Funding, Right-of-Way Grant and U.S. Army COE Section 404 Permit Issuance, City of Albuquerque, NM, Wait Period Ends: May 17, 2004, Contact: Marsha Carra (505) 462-3602.

Dated: April 13, 2004.
Ken Mittelholtz,
Environmental Protection Specialist, Office of Federal Activities.

[FR Doc. 04-8670 Filed 4-15-04; 8:45 am]

BILLING CODE 6560-50-P